DEPARTMENT OF TRANSPORTATION

National Highway Traffic Safety Administration

[U.S. DOT Docket Number NHTSA-2000-8619]

Reports, Forms, and Recordkeeping Requirements

AGENCY: National Highway Traffic Safety Administration (NHTSA), Department of Transportation.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatement of previously approved collections.

This document describes one collection of information for which NHTSA intends to seek OMB approval.

DATES: Comments must be received on or before March 19, 2001.

ADDRESSES: Comments must refer to the docket notice numbers cited at the beginning of this notice and be submitted to Docket Management, Room PL-401, 400 Seventh Street, SW., Washington, DC 20590. Please identify the proposed collection of information for which a comment is provided, by referencing its OMB clearance Number. It is requested, but not required, that 2 copies of the comment be provided. The Docket Section is open on weekdays from 10 a.m. to 5 p.m.

FOR FURTHER INFORMATION CONTACT: Complete copies of each request for collection of information may be obtained at no charge from Mr. Ed Kosek, NHTSA 400 Seventh Street, SW., Room 6123,Washington, DC 20590. Mr. Kosek's telephone number is (202) 366-2589. Please identify the relevant collection of information by referring to its OMB Control Number.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g. permitting electronic submission of responses.

In compliance with these requirements, NHTSA asks for public comments on the following proposed collections of information:

Replaceable Light Source Dimensional Information for 49 CFR Part 564

Type of Request: Reinstatement of Clearance.

OMB Clearance Number: 2127-0563.

Form Number: This collection of information uses no standard forms.

Requested Expiration Date of Approval: Three years from date of approval.

Summary of the Collection of Information: The information to be collected is in response to 49 CFR Part 564; “Replaceable Light Source Dimensional Information.” Persons desiring to use newly designed replaceable headlamp light sources are required to submit interchangeability and performance specifications to the agency. After a short agency review to assure completeness, the information is placed in a public docket for use by any person who would desire to manufacture headlamp light sources for highway motor vehicles. In Federal Motor Vehicle Safety Standard No. 108, “Lamps, reflective devices and associated equipment,” Part 564 submissions are referenced as being the source of information regarding the performance and interchangeability information for legal headlamp light sources, whether original equipment or replacement equipment. Thus, the submitted information about headlamp light sources becomes the basis for certification of compliance with safety standards.

Description of the need for the information and proposed use of the information: The information is to be placed in a public docket for the use by vehicle, headlamp and headlamp light source manufacturers for determining the interchangeability aspects of headlamp light sources for manufacturing purposes and for the design and manufacture of headlamps. In order for replacement light sources to be designated as acceptable replacements, the replacement light sources also are required to comply with the dimensional and performance information in the docket for its type. The Federal program for reducing highway fatalities, injuries and accidents would likely be adversely affected if the information was not collected, because the bulbs would, in fact, not be standardized for performance and interchangeability. If the interchangeability information were not available to manufacturers who normally provide original equipment and aftermarket parts, replacements could become significantly more costly to replace upon burnout, and ready availability would also likely diminish because the replacements would be available from only the vehicle's manufacturer or its dealer. As a potential adverse safety consequence, more and more vehicles would likely be on the highways at night with headlamps having one or more failed bulbs because of the higher expense and lower availability, and therefore reduce the roadway illumination and increase the risk of accident. In the event that the information collection were not reapproved, it is likely that the agency would have to reinstate headlamp light source information as part of the federal lighting standard and thus any new light source designs could be used only after a lengthy and costly rulemaking instead of this simple review and reference procedure.

Description of the Likely Respondents (Including Estimated Number, and Proposed Frequency of Response to the Collection of Information): For the burdened parties, only those which develop a new or modified headlamp light source or other additional interchange information will have to submit information. Based on the last three years of Part 564 data collection, sixteen submissions have been received.

Estimate of the Total Annual Reporting and Recordkeeping Burden Resulting from the Collection of Information: The average estimated cost of the information submissions is estimated to be 4.2 hours per submission at $100 per hour for a cost of $420 each, thus at a rate of 16/3 submissions per year, the average annual cost is $2240 and the average annual hour burden is 22.9 hours.

Issued on: January 9, 2001.
Stephen R. Kratzke,
Associate Administrator for Safety Performance Standards.

[FR Doc. 01-1218 Filed 1-12-01; 8:45 am]

BILLING CODE 4910-59-P